DEPARTMENT OF AGRICULTURE

Forest Service

Information Collection; Operating Plans

AGENCY: Forest Service, USDA.

ACTION: Notice, request for comment.

SUMMARY: In accordance with the Paperwork Reduction Act of 1995, the Forest Service is seeking comments from all interested individuals and organizations on the extension with no revision of a currently approved information collection, Operating Plans.

DATES: Comments must be received in writing on or before January 29, 2010 to be assured of consideration. Comments received after that date will be considered to the extent practicable.

ADDRESSES: Comments concerning this notice should be addressed to Lathrop Smith, Forest Management, Mail Stop 1103, Forest Service, USDA, 1400 Independence Ave., SW., Washington, DC 20250-1103.

Comments also may be submitted via facsimile to 202-205-1045 or by e-mail to ContractPlans@fs.fed.us.

The public may inspect comments received at the Office of the Director, Forest Management Staff, Forest Service, USDA, Room 3NW, Yates Building, 1400 Independence Ave., SW., Washington, DC, during normal business hours. Visitors are encouraged to call ahead to 202-205-1496 to facilitate entry to the building.

FOR FURTHER INFORMATION CONTACT: Lathrop Smith, Forest Management, 202-205-0858. Individuals who use telecommunication devices for the deaf (TDD) may call the Federal Relay Service (FRS) at 1-800-877-8339 twenty-four hours a day, every day of the year, including holidays.

SUPPLEMENTARY INFORMATION: Title: Operating Plans.

OMB Number: 0596-0086.

Expiration Date of Approval: April 30, 2010.

Type of Request: Extension of a currently approved collection.

Abstract: The National Forest Management Act, 16 U.S.C. 472a(14)(c) (Act), requires timber sale operating plans on timber sales that exceed 2 years in length. Operating plans are collected within 60 days of award of a timber sale contract and annually thereafter until contract is complete. Contracts less than 2 years in length require an annual plan. Each FS-2400-3P, FS-2400-3S, FS-2400-3T, FS-2400-6, FS-2400-6T, timber sale contract, and FS-2400-13 and FS-2400-13T Integrated Resource contract lists the information requirements for the subject contract.

The information collection under each contract varies depending on the size, scope, and length of the contract. The collection generally includes descriptions showing planned road maintenance and construction methods, timber harvesting, stewardship work (Integrated Resource Contracts only), slash disposal, and erosion control measures. Plans may also be required to address measures contractors will use to protect public safety in work areas; measures to prevent and control fires; and methods to prevent and control spills of petroleum products.

Contracting officers collect this information from contractors. Information required by a timber sale contract may be submitted in a variety of formats including forms developed by individual contractors, charts, letters, or optional Forest Service form FS-2400-67. Contractors may submit the information by electronic mail, facsimile, or via conventional mail.

The information is needed by the Agency for a variety of uses associated with the administration of Timber Sale and Integrated Resource contracts including the following: (1) Planning and scheduling contract administration workloads, (2) planning and scheduling the delivery of government furnished materials needed by contractors, (3) assuring safety of public in vicinity of contract work, (4) identifying contractor resources that may be used in emergency fire fighting situations, and (5) determining contractor eligibility for additional contract time.

Without accurate plans showing when and how a contractor intends to operate, the Forest Service would be hindered in fulfilling its contractual obligations to cooperate with and not encumber the performance of contractors. This could lead to serious problems including disputes, claims, and possible default. Without this information, the Forest Service may be unable to determine if a contractor is eligible for additional contract time to complete a project.

Estimate of Annual Burden: 1.6 hours per response.

Type of Respondents: Contractors of Timber Sale and/or Integrated Resource contracts.

Estimated Annual Number of Respondents: 2,500.

Estimated Annual Number of Responses per Respondent: 3.8.

Estimated Total Annual Burden on Respondents: 15,200 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: November 20, 2009.
Gloria Manning,
Associate Deputy Chief, NFS.

[FR Doc. E9-28451 Filed 11-27-09; 8:45 am]

BILLING CODE 3410-11-P